DEPARTMENT OF AGRICULTURE

Forest Service

Plumas National Forest, Feather River Ranger District, CA; Flea Project

AGENCY: Forest Service, USDA.

ACTION: Notice of intent to prepare an environmental impact statement.

SUMMARY: The USDA Forest Service will prepare an environmental impact statement to disclose the environmental effects resulting from construction of fuel breaks known as defensible fuel profile zones (DFPZs); harvest and reforestation of timber stands; restoration and enhancement of aquatic and riparian habitat; improvement of wildlife habitat and long term watershed condition; underburning to improve the health of unique plant communities; and road construction, reconstruction, and decommissioning.

DATES: Comments concerning the scope of the analysis must be received within 30 days of the publication of this notice in the Federal Register. The draft environmental impact statement is expected by January 2008, and the final environmental impact statement is expected by April 2008.

ADDRESSES: Send written comments to Karen Hayden, District Ranger, Plumas National Forest, Feather River Ranger District, 875 Mitchell Ave, Oroville, CA 95965. Comments may be (1) Mailed to the Responsible Official; (2) hand-delivered between the hours of 8 a.m.-4:30 p.m., Monday through Friday, excluding holidays; (3) faxed to (530) 532-1210; or (4) electronically mailed to: comments-pacificsouthwest-plumas-featherrvr@fs.fed.us.

FOR FURTHER INFORMATION CONTACT: John Zarlengo, Project Leader, Feather River Ranger District, 875 Mitchell Avenue, Oroville, CA 95965, or call (530) 532-8932.

SUPPLEMENTARY INFORMATION: The Flea Project area is located within the Feather River Ranger District of the Plumas National Forest in Butte County. Encompassing approximately 11,000 acres, the project area is located north and east of Paradise, from De Sabla in the northwest to Jorbo Gap in the southeast, and north and west of Mayaro and North Fork of the Feather River in the northeast. Treatment units range in elevation from 1,600 to 4,300 feet above sea level. Communities in and near the project area include Paradise, Magalia, DeSabla, Yankee Hill, Concow, Pulga and Mayaro.

The Flea Project is proposed as part of a broad resource management program to promote the ecological health of lands and economic health and stability of communities in the northern Sierra Nevada under the authority of the Herger-Feinstein Quincy Library Group Forest Recovery Act (HFQLG Act).

Purpose and Need for Action

The Forest Service has identified the following project objectives: (1) Protect communities and forest ecosystems from high-intensity wildfires; (2) promote a healthy all-aged, multistoried, fire-resilient forest; (3) contribute to the stability and economic health of communities; (4) promote the health of unique plant communities; (5) promote healthy aquatic and riparian ecosystems, and improve long term watershed condition; and (6) improve wildlife habitat.

Proposed Action

To achieve project objectives, the Forest Service proposes to construct approximately 2,007 acres of fuelbreaks known as Defensible Fuel Profile Zones (DFPZ). A DFPZ is a strategically located strip of land approximately ½ mile in width on which fuels, both living and dead, have been modified in order to reduce the potential for sustained crown fire and to allow fire suppression personnel a safer location from which to take action against a wildfire. The DFPZs in the Flea Project would be part of a larger, strategic system of DFPZs on the Plumas National Forest, adjacent private lands, and other national forests.

Proposed DFPZs are generally located on ridges, along roads, or adjacent to private property within wildland urban interface with tree crowns spaced at a distance that reduces the potential for crown fire spread (generally 40 percent canopy cover). DFPZs would be constructed through mechanically thinning and biomass removal on approximately 671 acres, mastication on approximately 456 acres, underburning on approximately 447 acres, and hand cutting, piling, and burning on approximately 433 acres.

The Forest Service proposes to harvest up to 5 million board feet of timber from group selection units (228 acres), and DFPZ mechanical thinning units (546 acres). Group selection involves harvest of trees less than 30-inches in diameter from small (0.5 to 2 acres) groups. Over time, this would create an uneven-aged (all-aged) forest made up of a mosaic of small groups of same-aged trees.

Use of existing and temporary roads would be needed to access group selection and DFPZ treatment areas. An estimated 13.4 miles of existing road would be reconstructed with 0.45 additional miles of new classified road construction and 4.5 miles of new temporary spur construction. An estimated 9.5 miles of system roads would be decommissioned or closed by various methods, such as ripping and seeding, re-contouring, and installing barriers. Future use of all other roads and user-developed OHV routes in the Flea Project area would be determined by the Plumas National Forest's travel management process. Improve the health of serpentine plant communities through the use of prescribed fire. Underburn approximately 100 acres included as DFPZ treatment.

Aquatic and riparian restoration projects include restoring and enhancing aquatic, native plant, and riparian habitat and improving long term watershed condition by decommissioning 9.5 miles of system roads, replacing or upgrading three culverts to restore aquatic species passage to approximately 5 miles of upstream habitat; and stabilizing stream channels and banks.

Habitat for northern goshawk would be improved by enhancing tree growth and health, and by creating a more desirable open understory on 84 acres included as DFPZ treatment.

Responsible Official

Karen L. Hayden, District Ranger, 875 Mitchell Ave., Oroville, CA 95965 is the Responsible Official. The Forest Service intends to use Stewardship contracting authority to apply the value from timber harvest to offset costs of fuel treatments.

Nature of Decision To Be Made

The Responsible Official will decide whether to implement this proposal, an alternative design that moves the project area towards the desired conditions, or not to implement any project at this time.

Scoping Process

Public questions and comments regarding this proposal are an integral part of this environmental analysis process. Comments will be used to identify issues and develop alternatives to the proposed action. To assist the Forest service in identifying and considering issues and concerns related to the proposed actions, comments should be as specific as possible.

Information about the proposed action will be mailed to the adjacent landowners, as well as to those people and organizations that have indicated a specific interest in the project, to Native American entities, and federal, state, and local agencies. The public will be notified of any meetings regarding this proposal by mailings and press releases sent to local newspapers and media. A community meeting in the project area is planned for January 2008, although specific information is not available at this time.

Preliminary Issues

The following preliminary issues have been identified for this proposal: (a) Impacts of ground disturbing activities on watershed condition, (b) impacts of activities on highly erodible soils, (c) economic feasibility of the project due to high treatment and regeneration costs, and (d) impacts of activities on habitat used by the California spotted owl and northern goshawk. Continued analysis will determine the relevance of these preliminary issues. Additional issues may be identified during the scoping process.

Permits or Licenses Required

No federal permits, licenses, or entitlements are necessary to implement the proposed project. State requirements, based on federal laws, and administered by the County Agricultural Commissioner for air quality management will be followed. These requirements include burning only on permissive burn days or receiving a special variance prior to ignition. Smoke permits are required from the Northern Sierra and Feather River Air Quality Management Districts (AQMD) prior to any understory or pile burning. Timber Harvest Activity Waivers are required from the California Regional Water Quality Control Board.

Comment Requested

This notice of intent initiates the scoping process which guides the development of the environmental impact statement. The public is encouraged to take part in the process and is encouraged to visit with Forest Service officials at any time during the analysis and prior to the decision. The Forest Service will be seeking information, comments, and assistance from Federal, State, and local agencies and other individuals or organizations that may be interested in, or affected by, the proposed vegetation management activities.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Act at 40 CFR 1503.3 in addressing these points.

Comments received, including the names and addresses of those who comment, will be considered part of the public record on this proposal and will be available for public inspection.

Dated: August 21, 2007.
Karen L. Hayden,
District Ranger.

[FR Doc. 07-4253 Filed 8-29-07; 8:45 am]

BILLING CODE 3410-11-M